Title 3—

The President

Memorandum of December 7, 2023

Delegation of Certain Functions and Authorities Under the Uyghur Human Rights Policy Act of 2020 and Public Law 117-78

Memorandum for the Secretary of State[,] the Secretary of the Treasury[, and] the Secretary of Homeland Security

By the authority vested in me as President by the Constitution and the laws of the United States of America, including section 301 of title 3, United States Code, I hereby order as follows:

Section 1. (a) I hereby delegate to the Secretary of State, in consultation with the Secretary of the Treasury, the functions and authorities vested in the President by the following provisions of the Uyghur Human Rights Policy Act of 2020 (Public Law 116-145) (UHRPA) and Public Law 117-78:

(i) section 6(a)(1) of the UHRPA, with respect to submitting the report;

(ii) section 6(e) of the UHRPA; and

(iii) section 5(c)(1) of Public Law 117-78, with respect to submitting the report.

(b) I hereby delegate to the Secretary of the Treasury, in consultation with the Secretary of State, the functions and authorities vested in the President by the following provisions of the UHRPA and Public Law 117-78:

(i) section 6(a)(1) of the UHRPA, with respect to making the determinations;

(ii) section 6(g) of the UHRPA, with respect to terminating the sanctions described in section 6(c)(1) of the UHRPA and imposed under section 6(b) of the UHRPA; and

(iii) section 5(c)(1) of Public Law 117-78, with respect to making the determinations.

(c) I hereby delegate to the Secretary of the Treasury the functions and authorities vested in the President by the following provisions of the UHRPA and Public Law 117-78:

(i) section 6(b) of the UHRPA, with respect to imposing the sanctions described in section 6(c)(1) of the UHRPA;

(ii) section 6(c)(1) of the UHRPA;

(iii) section 6(d) of the UHRPA; and

(iv) section 5(c)(2) of Public Law 117-78, with respect to imposing the sanctions described in section 6(c)(1) of the UHRPA.

(d) I hereby delegate to the Secretary of State, in consultation with the Secretary of Homeland Security, the functions and authorities vested in the President by the following provisions of the UHRPA and Public Law 117-78:

(i) section 6(b) of the UHRPA, with respect to imposing the sanctions described in section 6(c)(2) of the UHRPA;

(ii) section 6(g) of the UHRPA, with respect to terminating the sanctions described in section 6(c)(2) of the UHRPA and imposed under section 6(b) of the UHRPA; and

(iii) section 5(c)(2) of Public Law 117-78, with respect to imposing the sanctions described in section 6(c)(2) of the UHRPA.

Sec. 2. The delegations in this memorandum shall apply to any provisions of any future public laws that are the same or substantially the same as those provisions referenced in this memorandum.

Sec. 3. The Secretary of State is authorized and directed to publish this memorandum in the Federal Register.

THE WHITE HOUSE,

Washington, December 7, 2023

[FR Doc. 2023-27999

Filed 12-18-23; 8:45 am]

Billing code 4710-10-P